DEPARTMENT OF JUSTICE

Notice of Filing of Notice of Settlement Under the Comprehensive Environmental Response, Compensation, and Liability Act and the Resource Conservation and Recovery Act

On July 28, 2016, a Notice of Settlement Among EFH Properties Company and the United States on behalf of the U.S. Environmental Protection Agency (“EPA”) and the U.S. Department of the Interior (“DOI”) was filed with the United States Bankruptcy Court for the District of Delaware in the bankruptcy proceeding entitled In re Energy Future Holdings Corp., et al., Case No. 14-10979 (CSS). The proposed Settlement Agreement is attached to the Notice of Settlement as Exhibit A.

The Settlement Agreement resolves a claim against EFH Properties Company (“EFH Properties”), as the alleged corporate successor to former mine operators, asserted by the United States on behalf of the Environmental Protection Agency under the Comprehensive Environmental Response, Compensation, and Liability Act, 42 U.S.C. 9601-9675 (“CERCLA”). The claim sought to recover costs incurred and expected to be incurred in the future by the United States in response to releases and threats of releases of hazardous substances at or in connection with the Faith, Hope, Doris, and Isabella Uranium Mine Sites, located in McKinley County, New Mexico (“New Mexico Sites”).

Under the Settlement Agreement, EPA will receive $4,000,000.00. The Settlement Agreement contains covenants not to sue by the United States on behalf of EPA in favor of EFH Properties and its predecessors, Chaco Energy Company, TXU Industries Company LLC, and EFH Properties Company LLC (the “Covenant Beneficiaries”), under Sections 106 and 107 of CERCLA, 42 U.S.C. 9606, 9607 and Section 7003 of the Resource Conservation and Recovery Act, 42 U.S.C. 6973, with respect to the EPA claim or the New Mexico Sites. The Settlement Agreement also contains a covenant not to sue by the United States on behalf of DOI in favor of the Covenant Beneficiaries, for natural resources damages claims under Sections 107 of CERCLA, 42 U.S.C. 9607, with respect to the EPA claim or the New Mexico Sites.

The publication of this notice opens a period for public comment on the Settlement Agreement. Comments should be addressed to the Assistant Attorney General, Environment and Natural Resources Division, and should refer to In re Energy Future Holdings Corp., et al., Case No. 14-10979 (CSS), D.J. Ref. No. 90-5-2-1-09894/2. All comments must be submitted no later than fifteen (15) days after the publication date of this notice. Comments may be submitted either by email or by mail:

To submit comments: | Send them to:
By e-mail | pubcomment-ees.enrd@usdoj.gov.
By mail | Assistant Attorney General U.S. DOJ—ENRD P.O. Box 7611 Washington, DC 20044-7611.

Under section 7003(d) of RCRA, a commenter may request an opportunity for a public meeting in the affected area.

During the public comment period, the Settlement Agreement may be examined and downloaded at this Justice Department Web site: https://www.justice.gov/enrd/consent-decrees. We will provide a paper copy of the Settlement Agreement upon written request and payment of reproduction costs. Please mail your request and payment to: Consent Decree Library, U.S. DOJ—ENRD, P.O. Box 7611, Washington, DC 20044-7611.

Please enclose a check or money order for $13.50 (25 cents per page reproduction cost) payable to the United States Treasury.

Thomas P. Carroll,
Assistant Section Chief, Environmental Enforcement Section, Environment and Natural Resources Division.

[FR Doc. 2016-18479 Filed 8-3-16; 8:45 am]

BILLING CODE 4410-15-P